DEPARTMENT OF COMMERCE

National Oceanic and Atmospheric Administration

[RTID 0648-XC714]

Nominations to the Marine Fisheries Advisory Committee

AGENCY: National Marine Fisheries Service (NMFS), National Oceanic and Atmospheric Administration (NOAA), Commerce.

ACTION: Notice; request for nominations.

SUMMARY: The Secretary of Commerce (Secretary) seeks nominations to fill vacancies on the Marine Fisheries Advisory Committee (MAFAC or Committee). MAFAC is responsible to advise the Secretary, NOAA, and NMFS on all matters concerning living marine resources that are the responsibility of the Department of Commerce. The Committee makes recommendations to assist in the development and implementation of Departmental regulations, policies, and programs critical to the mission and goals of NMFS. Nominations are encouraged from all individuals involved with or representing interests affected by NMFS actions in managing living marine resources. Nominees should possess demonstrable expertise in a field related to the management of living marine resources and be able to fulfill the time commitment required for two annual meetings and year-round subcommittee work. Individuals serve for a term of 3 years for no more than two consecutive terms if re-appointed. NMFS seeks qualified nominees to fill pending vacancies.

DATES: Nominations must be emailed on or before March 13, 2023.

ADDRESSES: Nominations should be sent to Katie Denman, MAFAC Assistant, NMFS Office of Policy, by email: katie.denman@noaa.gov.

FOR FURTHER INFORMATION CONTACT: Katie Denman, MAFAC Assistant; (301) 427-8034; email: katie.denman@noaa.gov.

SUPPLEMENTARY INFORMATION: The MAFAC was approved by the Secretary on December 28, 1970, and subsequently chartered under the Federal Advisory Committee Act, 5 U.S.C. App. 2, on February 17, 1971. The Committee meets twice a year, and holds supplementary meetings when necessary, as determined by NMFS or the Committee Chair. MAFAC is comprised of 15 to 21 individuals. Members are highly qualified, diverse individuals with experience in commercial, recreational, aquaculture, and non-commercial fisheries and businesses; seafood industry, including processing, marketing, restaurants and related industries; marine, ecosystems, or protected resources management and conservation; and human dimensions or social sciences associated with living marine resources and working waterfronts. Members may be from tribes or indigenous groups, environmental organizations, academia, consumer groups, and other living marine resource interest groups from all U.S. geographical regions, including the Western Pacific and Caribbean. The NMFS strives to ensure MAFAC members represent a diversity of individuals and interests.

A MAFAC member cannot be: a Federal employee; a state official, their designee, or an appointed member of a regional fishery management council; registered Federal lobbyist; or agent of a foreign principal. Selected candidates must pass a security check and submit a financial disclosure form. Membership is voluntary, and except for reimbursable travel and related expenses, service is without pay.

Each nomination must include the nominee's name, address, telephone number and email address; a cover letter describing the nominee's interest in serving on the Committee and qualifications; and their curriculum vitae or resume. Up to three letters of support may be submitted. Self-nominations will be accepted.

Nominations should be sent to Katie Denman (see ADDRESSES) and must be received by March 13, 2023. The full text of the Committee Charter and its current membership can be viewed at the NMFS' web page at https://www.fisheries.noaa.gov/national/partners/marine-fisheries-advisory-committee-charter.

Dated: January 23, 2023.
Jennifer Lukens,
Director for the Office of Policy, National Marine Fisheries Service.

[FR Doc. 2023-01609 Filed 1-26-23; 8:45 am]

BILLING CODE 3510-22-P